NATIONAL AERONAUTICS AND SPACE ADMINISTRATION

[Notice (10-015)]

NASA Advisory Council; Meeting

AGENCY: National Aeronautics and Space Administration.

ACTION: Notice of Meeting.

SUMMARY: In accordance with the Federal Advisory Committee Act, Public Law 92-463, as amended, the National Aeronautics and Space Administration announces a meeting of the newly formed Education and Public Outreach Committee of the NASA Advisory Council. This will be the first meeting of this Committee.

DATES: February 17, 2010—10 a.m.-4 p.m. (EST).

ADDRESSES: NASA Headquarters, 300 E Street, SW., Washington, DC, Room CD61.

FOR FURTHER INFORMATION CONTACT: Ms. Erika G. Vick, Executive Secretary for the Education and Public Outreach Committee, National Aeronautics and Space Administration Headquarters, Washington, DC 20546, (202) 358-2209.

SUPPLEMENTARY INFORMATION: The agenda for the meeting includes the following topics:

• Associate Administrator for Public Affairs Briefing.

• Discussion of Social Media Opportunities and Challenges.

• Associate Administrator for Education Briefing.

• Discussion of Opportunities and Challenges to Reach K-12 Students.

• Discussion of how to Organize the Committee Work Plan.

It is imperative that these meetings be held on this date to accommodate the scheduling priorities of the key participants. Attendees will be requested to comply with NASA security requirements, including the presentation of a valid picture ID, before receiving an access badge. Foreign nationals attending this meeting will be required to provide a copy of their passport, visa, or green card in addition to providing the following information no less than 10 working days prior to the meeting: Full name; gender; date/place of birth; citizenship; visa/green card information (number, type, expiration date); passport information (number, country, expiration date); employer/affiliation information (name of institution, address, country, phone); and title/position of attendee. To expedite admittance, attendees with U.S. citizenship can provide identifying information 3 working days in advance by contacting Ms. Erika Vick via e-mail at Erika.Vick-1@nasa.gov or by telephone at (202) 358-2209. Persons with disabilities who require assistance should indicate this.

Dated: January 22, 2010.
P. Diane Rausch,
Advisory Committee Management Officer, National Aeronautics and Space Administration.

[FR Doc. 2010-1919 Filed 1-28-10; 8:45 am]

BILLING CODE P